DEPARTMENT OF STATE

22 CFR Parts 120 and 126

RIN 1400-AD38

[Public Notice 8335]

Implementation of the Defense Trade Cooperation Treaty Between the United States and Australia; Announcement of Effective Date for Regulations

ACTION: Final rule; announcement of effective date.

SUMMARY: This rule provides an effective date for previously published regulations implementing the Treaty Between the Government of the United States of America and the Government of Australia Concerning Defense Trade Cooperation (referred to herein as “the Treaty”).

DATES: Effective Date: The rule, “Implementation of the Defense Trade Cooperation Treaty Between the United States and Australia,” published on April 11, 2013 (Public Notice 8270, 78 FR 21523) is effective May 16, 2013.

FOR FURTHER INFORMATION CONTACT: Sarah J. Heidema, Office of Defense Trade Controls Policy, Directorate of Defense Trade Controls, Bureau of Political-Military Affairs, U.S. Department of State, Washington, DC 20522-0112, telephone (202) 663-2809, email heidemasj@state.gov.

SUPPLEMENTARY INFORMATION: The rule (Public Notice 8270, 78 FR 21523), published on April 11, 2013, amends the International Traffic in Arms Regulations to implement the Treaty, and identifies via a supplement the defense articles and defense services that may not be exported pursuant to the Treaty. The Department of State indicated in the rule that it would become effective upon the entry into force of the Treaty, and that the Department of State would publish another rule announcing its effective date. The Treaty entered into force on May 16, 2013. Therefore, the rule is in effect as of that date. The Department's regulatory analyses with respect to this Rule were published at 78 FR 21523, and are hereby incorporated by reference.

Dated: May 20, 2013.
Rose E. Gottemoeller,
Acting Under Secretary, Arms Control and International Security, Department of State.

[FR Doc. 2013-12610 Filed 5-29-13; 8:45 am]

BILLING CODE 4710-25-P